DEPARTMENT OF HOUSING AND URBAN DEVELOPMENT

24 CFR Parts 247, 880, 882, 884, 886, 891, and 966

[Docket No. FR-6529-I-01]

RIN 2501-AE14

Revocation of the 30-Day Notification Requirement Prior To Termination of Lease for Nonpayment of Rent

AGENCY: Office of the Secretary, U.S. Department of Housing and Urban Development (HUD).

ACTION: Interim final rule.

SUMMARY: This rule revokes the 2021 interim final rule and 2024 final rule requiring that public housing agencies (PHAs) and owners of properties receiving project-based rental assistance (PBRA) provide certain tenants with 30-day notification prior to termination of lease for nonpayment of rent. Regulatory requirements for notice of termination for nonpayment of rent will return to pre-2021 requirements, which range from 5 days to 30 days for HUD programs and depend on state and local laws. This rule also removes requirements from the 2021 and 2024 rules related to information in termination notices.

DATES: This rule is effective March 30, 2026.

Comments must be received by April 27, 2026.

ADDRESSES: Interested persons are invited to submit comments regarding this interim final rule. All submissions must refer to the docket number and title. There are two methods for submitting public comments.

1. Electronic Submission of Comments. Interested persons may submit comments electronically through the Federal eRulemaking Portal at https://www.regulations.gov.

2. Submission of Comments by Mail. Comments may be submitted by mail to the Regulations Division, Office of General Counsel, Department of Housing and Urban Development, 451 7th Street SW, Room 10276, Washington, DC 20410-0500.

A summary of this interim final rule and copies of all comments submitted may be found at www.regulations.gov.

FOR FURTHER INFORMATION CONTACT: For Public and Indian Housing: Todd Thomas, Acting Deputy Assistant Secretary for the Office of Public Housing and Voucher Programs, 451 7th Street SW, Room 4204, Washington, DC 20410, telephone number 202-402-4542 (this is not a toll-free number). For a quicker response, email publichousingpolicyquestions@hud.gov.

For Multifamily: Lamar Seats, Deputy Assistant Secretary for the Office of Multifamily Housing Programs, 451 7th Street SW, Room 6106, Washington, DC 20410, telephone number 202-402-6108 (this is not a toll-free number). For a quicker response, email mfcommunications@hud.gov. HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION:

I. Background

2021 Interim Final Rule

On October 7, 2021, HUD published an interim final rule titled “Extension of Time and Required Disclosures for Notification of Nonpayment of Rent” (86 FR 55693) (the “2021 interim final rule”). During the COVID-19 pandemic, Congress created the Emergency Rental Assistance (ERA) program, funded through the Department of Treasury, to assist households facing financial hardship and housing instability. ERA funding made over $46 billion available to households and landlords to assist with rent and utilities payments. HUD published the 2021 interim final rule to ensure that tenants in public housing and PBRA-assisted units who were eligible for ERA funding were afforded notice of the funding and had the opportunity to secure the funding before a lease termination for nonpayment of rent. The 2021 interim final rule addressed the COVID-19 emergency and future emergencies in three ways.

First, the 2021 interim final rule provided that during a national emergency when funding is available to assist with nonpayment of rent, the Secretary may determine that tenants facing eviction for nonpayment of rent must be provided with adequate time and notice to secure that funding. Upon the Secretary's determination, PHAs or owners seeking to evict tenants for nonpayment of rent must provide information on accessing the funds at the direction of the Secretary. Second, the 2021 interim final rule extended the lease termination time period to at least 30 days following the above-described notification. Third, the 2021 interim final rule provided that for public housing, the Secretary may require that all tenants be provided immediate notice of the availability of emergency funding. Pursuant to the 2021 interim final rule, HUD also issued a joint Public and Indian Housing (PIH) and Housing notice on October 7, 2021 (Notices PIH 2021-29 and H 2021-06) providing supplemental guidance.

2023 Proposed Rule

On December 1, 2023, HUD published a proposed rule seeking to make the 2021 interim final rule generally applicable and no longer contingent on the existence of a national emergency or the availability of emergency rental assistance (88 FR 83877). The public comment period for the proposed rule ended on January 30, 2024. HUD received 316 comments. These comments were received from individuals, landlords, tenants, property owners (“owners”), housing agencies, housing cooperatives, non-profit housing organizations, non-profit organizations representing seniors or individuals with disabilities, housing associations, case managers for individuals experiencing homelessness, churches, law firms, etc.

2024 Final Rule

On December 13, 2024, HUD published a final rule (89 FR 101270) (“2024 final rule”), which required that PHAs and owners of properties receiving PBRA provide tenants with a termination notice at least 30 days prior to filing a formal judicial eviction. For purposes of the 2024 final rule, PBRA and other forms of project rental assistance included projects in the following programs: Section 8 Project-Based Rental Assistance, Section 202/162 Project Assistance Contract (PAC), Section 202 Project Rental Assistance Contract (PRAC), Section 811 PRAC, Section 811 Project Rental Assistance Program (811 PRA), and Senior Preservation Rental Assistance Contract Projects (SPRAC). Under the 2024 rule, if the tenant paid the alleged amount of rent owed within the 30-day notification period, a PHA or owner was prohibited from filing an eviction for nonpayment of rent.

The 2024 final rule also set requirements for information to be included in the notice and timing of the notice. The termination notice could not be provided to tenants before the day after the rent was due according to the lease. The notice needed to include instructions on how tenants can cure lease violations for nonpayment of rent; the alleged amount of rent owed by the tenant and any other arrearages allowed by HUD; the date by which the tenant must pay rent and arrearages to avoid the filing of an eviction; information on how tenants can recertify their income; how tenants can request a minimum rent hardship exemption, if applicable; and in the event of a Presidential declaration of a national emergency, such information as required by the Secretary.

This Interim Final Rule

This interim final rule returns HUD's public housing and PBRA regulations on notice of lease termination for nonpayment of rent to what they were prior to publication of the 2021 interim final rule.

This interim final rule, consistent with the requirements in place prior to the 2021 interim final rule, provides the following regulatory notice timelines for nonpayment of rent:

Program | Regulation | Timeline
Public Housing | 24 CFR 966.4 | Non-payment, notice: In the case of termination for nonpayment of rent, a PHA shall provide at least fourteen days' written notice.
Project-based rental assistance programs | 24 CFR 247.4(c) | Non-payment, notice: For termination for nonpayment of rent, a termination notice must be provided with enough advance time to comply with both the rental agreement or lease and State laws. Notice: For termination of tenancy for “other good cause,” HUD regulations require 30 days' notice along with the provision of specific information to the tenant.
Project-Based Section 8 | 24 CFR 880.607(c)(2); 24 CFR 247.4(c) | Non-payment notice: For termination for nonpayment of rent, the time of service must be in accord with the lease and State law. Notice: For termination of tenancy for “other good cause,” HUD regulations require 30 days' notice along with the provision of specific information to the tenant.
Section 8 Moderate Rehabilitation Program ¹ | 24 CFR 882.511(d)(1)(i) | Non-payment, notice: Five working days notice required before tenancy termination for non-payment.

Additionally, this interim final rule removes provisions requiring PHAs and owners to include certain information in their notice to tenants of lease termination for nonpayment of rent.

¹ With respect to the Section 8 Moderate Rehabilitation Single Room Occupancy (SRO) Program for Homeless Individuals, the five working days notice requirement in 24 CFR 982.511(d)(1)(i) applies to the program. The SRO regulations at 24 CFR 882.808(l) state that “Section 882.511 applies to [the SRO] program.”

HUD is also removing the language in § 880.607(c)(7), which prohibited PHAs and owners from providing tenants with a notice of termination prior to the day after the rent is due according to the lease.

Finally, this interim final rule removes the ability of the Secretary to prescribe information to be included in the notice to tenants in the event of a Presidential declaration of a national emergency.

II. Justification

During the pandemic, PHAs and owners saw rental arrearages increased by 200 percent nationally based on data obtained from PHA's Financial Data Schedule submissions. Through HUD's most recent financial data, arrearages have not reverted to pre-pandemic levels, indicating that PHAs and owners continue to see significant financial impacts from nonpayment of rent. Specifically, HUD's administrative data submitted by PHAs suggests that the national Tenant Accounts Receivable (TAR) amount for 2024 is over a 200% increase from 2019. PHAs relayed to HUD that some tenants interpreted the eviction moratorium and its extensions, along with available emergency rental assistance, to mean that paying rent was not required.² For these families, the rent arrearages accumulated over time to levels they struggled to resolve. HUD received a number of public comments in response to the 2023 proposed rule highlighting the financial burden facing PHAs and owners. Commenters stated that the longer notice period means PHAs and owners would miss multiple months of rent when a tenant is being evicted for nonpayment. Commenters cited lengthy eviction court cases and the time it takes to clean and re-lease a unit as reasons for missing out on multiple months of rent.

² See What You Need To Know About The CDC Eviction Moratorium at https://www.marketplace.org/story/2020/09/11/what-you-need-to-know-about-the-cdc-eviction-moratorium; Small Landlords In California Left Struggling When Renters Stop Paying at https://www.ijpr.org/2021-03-21/small-landlords-left-struggling-when-renters-stop-paying; and More DC tenants are not paying rent. Here's How The Bowser Administration Is Responding at https://wtop.com/dc/2025/02/more-dc-tenants-are-not-paying-rent-heres-how-the-bowser-administration-is-responding/.

Missed rent, commenters noted, causes financial instability for PHAs and owners, particularly small PHAs and owners. Commenters stated that the loss of income causes housing providers to fall short from fulfilling HUD's mission because they are unable to pay for property maintenance, insurance, and staffing. Notably, while the 30-day notice provided tenants with longer runways to undertake remedial actions to become current with their rent, such as seeking a retroactive income redetermination in the case of job loss or income reduction, the consistent increase of TAR suggests many tenants did not avail themselves of such options. The loss of income, commenters noted, is a financial burden on top of the already increasing costs of providing housing including insurance premiums, which have increased 110% in some states.³

³ Study conducted by S&P Global Market Intelligence. https://www.spglobal.com/market-intelligence/en/news-insights/articles/2024/5/us-homeowners-insurers-net-combined-ratio-surges-past-110-81711947.

Commenters stated that the 2024 rule would negatively impact Tenant Accounts Receivable, which they stated would affect how they are scored by HUD. One commenter noted that the 2024 rule would prolong wait times for other tenants, which affects the PHA's Capital Fund Program score since that category focuses on occupancy rates, and noted that lower scores subject PHAs to remedial actions, oversight, and monitoring by HUD.⁴

⁴ 89 FR 101282.

This rule will re-establish the pre-pandemic regulatory standards to support PHAs and owners to adequately address nonpayment of rent, and prevent the increase of rental arrearages, while also continuing to provide families with adequate notice.

Lastly, PHAs and owners have significant waiting lists to obtain affordable housing. In many cities, waitlists are years long and often closed to new applicants. Annually, it is estimated that approximately 1 in 4 families that are eligible to receive rental assistance are able to obtain it.⁵ HUD received multiple comments on the 2023 proposed rule expressing concern that the rule would cause longer wait times for individuals and families on waiting lists. Commenters noted that the rule will further delay other applicants on waiting lists from getting assistance due to the shortage of available units in public housing. Housing providers commented that the rule limits their ability to turn over units and find new tenants. By revoking the 2024 rule, this rule will improve access to affordable housing by timely addressing nonpayment of rent and opening up housing opportunities for families on waiting lists.

⁵ According to the 2023 American Housing Survey, there were approximately 4.5 million HUD-assisted households, and 24.9 million unassisted eligible renter households earning up to 80 percent of the area median income. Thus, about 23 percent of households eligible for HUD assistance were assisted.

III. Justification for Interim Rule

In general, HUD publishes a rule for public comment before issuing a rule for effect, in accordance with both the Administrative Procedure Act (APA), 5 U.S.C. 553, and its own regulations on rulemaking, 24 CFR part 10. Both the APA and part 10, however, provide for exceptions from that general rule where HUD finds good cause to omit advance notice and public participation. The good cause requirement is satisfied when the prior public procedure is “impracticable, unnecessary, or contrary to the public interest.” To publish a rule for effect prior to receiving and responding to public comments, the agency must make a finding that at least one of these “good cause” exceptions applies.

HUD has determined that good cause exists to promulgate this interim final rule without prior notice and comment. Advance public notice and comment is unnecessary and does not serve the public interest in this case because HUD has already received extensive public comment on this matter from a wide range of stakeholders including individuals, landlords, tenants, owners, housing agencies, housing cooperatives, non-profit housing organizations, non-profit organizations representing seniors or individuals with disabilities, housing associations, case managers for individuals experiencing homelessness, churches, law firms, and others.

In 2021, HUD solicited comments on the 2021 interim final rule and received 44 comments, which were reviewed and incorporated into the 2023 proposed rule. When HUD solicited comments again in 2023, it received 316 public comments. HUD very recently reviewed and responded to these comments when it published its final rule on December 13, 2024. HUD does not expect comments submitted in response to this interim final rule to raise any new information which HUD has not recently considered. Additional further comment is therefore unnecessary.

IV. Findings and Certifications

Regulatory Review—Executive Orders 12866 and 13563

Executive Orders 12866 and 13563 direct agencies to assess all costs and benefits of available regulatory alternatives and, if regulation is necessary, to select regulatory approaches that maximize net benefits (including potential economic, environmental, public health, and safety effects; distributive impacts; and equity). Executive Order 13563 emphasizes the importance of quantifying both costs and benefits, of reducing costs, of harmonizing rules, and of promoting flexibility. Under Executive Order 12866 (Regulatory Planning and Review), a determination must be made whether a regulatory action is significant and, therefore, subject to review by the Office of Management and Budget (OMB) in accordance with the requirements of the order.

This interim final rule will reduce the time before PHAs and owners can pursue eviction proceedings for nonpayment of rent after giving notice to tenants in public housing and PBRA assisted units. The rule also removes requirements on what PHAs and owners must include in termination notices to tenants for nonpayment of rent. These changes are intended to reduce administrative and financial burden on PHAs and owners, although they limit some of the procedural benefits to existing tenants.

This final rule was determined to be a significant regulatory action under section 3(f) of Executive Order 12866 (although not an economically significant regulatory action under the Order). HUD has prepared a Regulatory Impact Analysis (RIA) that addresses the costs and benefits of this final rule. HUD's RIA is part of the docket file for this rule, which is available for public inspection at www.regulations.gov.

Regulatory Costs (Executive Order 14192)

Executive Order 14192, entitled “Unleashing Prosperity Through Deregulation,” was issued on January 31, 2025. Section 3(c) of Executive Order 14192 requires that any new incremental costs associated with new regulations shall, to the extent permitted by law, be offset by the elimination of existing costs associated with at least 10 prior regulations. This interim final rule is a repeal of a regulation and results in reduced regulatory costs for purposes of Executive Order 14192.

Regulatory Flexibility Act

The Regulatory Flexibility Act (RFA) (5 U.S.C. 601 et seq.) generally requires an agency to conduct a regulatory flexibility analysis of any rule subject to notice and comment rulemaking requirements, unless the agency certifies that the rule will not have a significant economic impact on a substantial number of small entities.

As a preliminary matter, because this rule is subject to the APA's good cause exception, notice and comment is not required and so the RFA does not apply. See 5 U.S.C. 603(a), 604(a).

Further, the undersigned certifies that the rule does not have a significant economic impact on a substantial number of small entities. This rule seeks to ease administrative and financial burdens on PHAs and owners by removing requirements that recently went into effect. HUD notes that the compliance date for PHAs to amend their leases has not yet gone into effect. Additionally, PBRA owners are not yet required to comply with certain requirements put into place by the 2024 final rule. This interim final rule will remove these requirements altogether and therefore reduce the administrative and financial burden on small entities.

Information Collection Requirements

In accordance with the Paperwork Reduction Act of 1995 (44 U.S.C. 3501-3520), an agency may not conduct or sponsor, and a person is not required to respond to, a collection of information unless the collection displays a valid control number. The information collection requirements contained in the 2024 final rule were submitted to OMB under the Paperwork Reduction Act of 1995 (44 U.S.C. 3501-3520) and assigned OMB control numbers 2577-0006 and 2502-0178. This rule is removing certain information collection requirements. HUD has therefore updated its submission to OMB.

Unfunded Mandates Reform Act

Title II of the Unfunded Mandates Reform Act of 1995 (UMRA) establishes requirements for Federal agencies to assess the effects of their regulatory actions on State, local, and tribal governments and the private sector. This final rule will not impose any Federal mandates on any State, local, or tribal governments or the private sector within the meaning of UMRA.

Environmental Review

A Finding of No Significant Impact (FONSI) with respect to the environment has been made in accordance with HUD regulations in 24 CFR part 50 that implement section 102(2)(C) of the National Environmental Policy Act of 1969 (42 U.S.C. 4332(2)(C)). The FONSI is available online at www.regulations.gov.

Executive Order 13132, Federalism

Executive Order 13132 (entitled “Federalism”) prohibits an agency from publishing any rule that has federalism implications if the rule either imposes substantial direct compliance costs on state and local governments or is not required by statute, or the rule preempts state law, unless the agency meets the consultation and funding requirements of section 6 of the Executive order. This rule does not have federalism implications and will not impose substantial direct compliance costs on state and local governments or preempt state law within the meaning of the Executive order.

Regulatory Costs

Executive Order 14192, entitled “Unleashing Prosperity Through Deregulation,” was issued on January 31, 2025. Section 3(c) of Executive Order 14192 requires that any new incremental costs associated with new regulations shall, to the extent permitted by law, be offset by the elimination of existing costs associated with at least 10 prior regulations. OMB has determined that this interim final rule reduces administrative and financial burdens by removing requirements on PHAs and owners that recently went into effect.

V. Electronic Access and Filing

Comments submitted electronically through the http://www.regulations.gov website can be viewed by other commenters and interested members of the public. Commenters should follow the instructions provided on that site to submit comments electronically.

All comments and communications properly submitted to HUD will be available for public inspection and copying between 8 a.m. and 5 p.m. weekdays at the above address. Due to security measures at the HUD Headquarters building, an advance appointment to review the public comments must be scheduled by calling the Regulations Division at (202) 708-3055 (this is not a toll-free number). HUD welcomes and is prepared to receive calls from individuals who are deaf or hard of hearing, as well as from individuals with speech or communication disabilities. To learn more about how to make an accessible telephone call, please visit https://www.fcc.gov/consumers/guides/telecommunications-relay-service-trs.

List of Subjects

24 CFR Part 247

Grant programs-housing and community development, Loan programs-housing and community development, Low and moderate income housing, Rent subsidies.

24 CFR Part 880

Accounting, Administrative practice and procedure, Government contracts, Grant programs-housing and community development, Home improvement, Housing, Housing standards, Low and moderate income housing, Manufactured homes, Public assistance programs, Rent subsidies, Reporting and recordkeeping requirements.

24 CFR Part 882

Grant programs-housing and community development, Homeless, Lead poisoning, Manufactured homes, Rent subsidies, Reporting and recordkeeping requirements

24 CFR Part 884

Accounting, Administrative practice and procedure, Grant programs-housing and community development, Home improvement, Housing, Low and moderate income housing, Public assistance programs, Public housing, Rent subsidies, Reporting and recordkeeping requirements, Rural areas, Utilities.

24 CFR Part 886

Accounting, Administrative practice and procedure, Government contracts, Grant programs-housing and community development, Home improvement, Housing, Lead poisoning, Low and moderate income housing, Mortgages, Public assistance programs, Rent subsidies, Reporting and recordkeeping requirements, Utilities, Wages.

24 CFR Part 891

Aged, Grant programs-housing and community development, Individuals with disabilities, Loan programs-housing and community development, Low and moderate income housing, Public assistance programs, Rent subsidies, Reporting and recordkeeping requirements.

24 CFR Part 966

Grant programs-housing and community development, Public housing, Reporting and recordkeeping requirements.

Accordingly, for the reasons stated in the preamble, HUD amends 24 CFR parts 247, 880, 882, 884, 886, 891, and 966 as follows:

PART 247—EVICTIONS FROM CERTAIN SUBSIDIZED AND HUD-OWNED PROJECTS

1. The authority for part 247 continues to read as follows:

Authority: 12 U.S.C. 1701q, 1701s, 1715b, 1715l, and 1715z-1; 42 U.S.C. 1437a, 1437c, 1437f, and 3535(d).

2. Amend § 247.4 by revising paragraphs (c) and (e) to read as follows:

§ 247.4 Termination notice.

* * * * *

(c) Time of service. When the termination of the tenancy is based on other good cause pursuant to § 247.3(a)(4), the termination notice shall be effective, and the termination notice shall so state, at the end of a term and in accordance with the termination provisions of the rental agreement, but in no case earlier than 30 days after receipt of the tenant of the notice. Where the termination notice is based on material noncompliance with the rental agreement or material failure to carry out obligations under a state landlord and tenant act pursuant to § 247.3(a)(1) or (2), the time of service shall be in accord with the rental agreement and state law.

* * * * *

(e) Specificity of notice in rent nonpayment cases. In any case in which a tenancy is terminated because of the tenant's failure to pay rent, a notice stating the dollar amount of the balance due on the rent account and the date of such computation shall satisfy the requirement of specificity set forth in paragraph (a)(2) of this section.

* * * * *

PART 880—SECTION 8 HOUSING ASSISTANCE PAYMENTS PROGRAM FOR NEW CONSTRUCTION

3. The authority for part 880 continues to read as follows:

Authority: 42 U.S.C. 1437a, 1437c, 1437f, 3535(d), 12701, and 13611-13619.

§ 880.606 [AMENDED]

4. Amend § 880.606 by removing paragraph (b) and redesignating paragraph (c) as paragraph (b).

§ 880.607 [AMENDED]

5. Amend § 880.607 by removing paragraphs (c)(6) and (7).

PART 882—SECTION 8 MODERATE REHABILITATION PROGRAMS

6. The authority for part 882 continues to read as follows:

Authority: 42 U.S.C. 1437f and 3535(d).

7. Amend § 882.511 by:

a. Revising paragraph (d)(1)(i);

b. Removing paragraph (d)(2)(iv); and

c. In paragraph (d)(3), removing the reference “paragraphs (d)(1) and (2)” and adding, in its place, the reference “paragraph (d)(2)”.

The revision reads as follows:

§ 882.511 Lease and termination of tenancy.

* * * * *

(d) * * *

(1) * * *

(i) When termination is based on failure to pay rent, the date of termination must be not less than five working days after the Family's receipt of the notice.

* * * * *

PART 884—SECTION 8 HOUSING ASSISTANCE PAYMENTS PROGRAM, NEW CONSTRUCTION SET-ASIDE FOR SECTION 515 RURAL RENTAL HOUSING PROJECTS

8. The authority for part 884 continues to read as follows:

Authority: 42 U.S.C. 1437a, 1437c, 1437f, 3535(d), and 13611-13619.

9. Amend § 884.215 by revising the introductory text to read as follows:

§ 884.215 Lease requirements.

The Lease shall contain all required provisions specified in paragraph (b) of this section and none of the prohibited provisions listed in paragraph (c) of this section.

* * * * *

§ 884.216 [AMENDED]

10. Amend § 884.216 by removing paragraphs (d) and (e).

PART 886—SECTION 8 HOUSING ASSISTANCE PAYMENTS PROGRAM—SPECIAL ALLOCATIONS

11. The authority for part 886 continues to read as follows:

Authority: 42 U.S.C. 1437a, 1437c, 1437f, 3535(d), and 13611-13619.

§ 886.127 [AMENDED]

12. Amend § 886.127 by removing paragraph (c).

§ 886.327 [AMENDED]

13. Amend § 886.327 by removing paragraph (c).

PART 891—SUPPORTIVE HOUSING FOR THE ELDERLY AND PERSONS WITH DISABILITIES

14. The authority for part 891 continues to read as follows:

Authority: 12 U.S.C. 1701q; 42 U.S.C. 1437f, 3535(d), and 8013.

§ 891.425 [AMENDED]

14. Amend § 891.425 by removing paragraph (d).

PART 966—PUBLIC HOUSING LEASE AND GRIEVANCE PROCEDURE

15. The authority for part 966 continues to read as follows:

Authority: 42 U.S.C. 1437d and 3535(d).

16. Amend § 966.4 by:

a. Revising paragraphs (1)(3)(i)(A) and (l)(3)(ii); and

b. Removing paragraphs (q) and (r).

The revisions read as follows:

§ 966.4 Lease requirements.

* * * * *

(l) * * *

(3) * * *

(i) * * *

(A) 14 days in the case of failure to pay rent;

* * * * *

(ii) The notice of lease termination to the tenant shall state specific grounds for termination, and shall inform the tenant of the tenant's right to make such reply as the tenant may wish. The notice shall also inform the tenant of the right (pursuant to paragraph (m) of this section) to examine PHA documents directly relevant to the termination or eviction. When the PHA is required to afford the tenant the opportunity for a grievance hearing, the notice shall also inform the tenant of the tenant's right to request a hearing in accordance with the PHA's grievance procedure.

* * * * *

Scott Turner,
Secretary.

[FR Doc. 2026-03921 Filed 2-25-26; 8:45 am]

BILLING CODE 4210-67-P